DEPARTMENT OF ENERGY

International Energy Agency Meetings

AGENCY: Department of Energy.

ACTION: Notice of meetings.

SUMMARY: The Industry Advisory Board (IAB) to the International Energy Agency (IEA) will meet on October 22-23, 2019, at the IEA Headquarters, Room 1, 9 rue de la Fédération, 75015 Paris, France, in connection with a joint meeting of the IEA's Standing Group on Emergency Questions (SEQ) which is scheduled at the same time.

DATES: October 22-23, 2019.

ADDRESS: IEA Headquarters, Room 1, 9 rue de la Fédération, 75015 Paris, France.

FOR FURTHER INFORMATION CONTACT: Thomas Reilly, Assistant General Counsel for International and National Security Programs, Department of Energy, 1000 Independence Avenue SW, Washington, DC 20585, 202-586-5000.

SUPPLEMENTARY INFORMATION: In accordance with section 252(c)(1)(A)(i) of the Energy Policy and Conservation Act (42 U.S.C. 6272(c)(1)(A)(i)) (EPCA), the following notice of meetings is provided:

A meeting of the Industry Advisory Board (IAB) to the International Energy Agency (IEA) will be held at the IEA Headquarters, Room 1, 9 rue de la Fédération, 75015 Paris, France, commencing at 9:30 a.m. on October 22, 2019. The purpose of this notice is to permit attendance by representatives of U.S. company members of the IAB at a meeting of the IEA's Standing Group on Emergency Questions (SEQ), which is scheduled to be held at the same location and time. The IAB will also hold a preparatory meeting among company representatives at the same location at 8:30 a.m. on October 22, 2019. The agenda for this preparatory meeting is to review the agenda for the SEQ meeting.

The agenda of the meeting is under the control of the SEQ and the SOM. It is expected that the SEQ will adopt the following agenda:

Closed SEQ Session—IEA Member Countries Only

1. Adoption of the Agenda

2. Approval of the Summary Record of the 158th Meeting

3. Status of Compliance with IEP Agreement Stockholding Obligations

4. Update on the Ministerial Mandate

5. Update on Accession process of Lithuania

Open SEQ Session—open to Association Countries

6. Mid-term Review of Sweden

7. Gas Security 2019

8. Industry Advisory Board Update

9. Emergency Response Review—Luxembourg

10. Mid-term Review of Switzerland

11. Outreach

12. ERE 10 Notice

13. Oral Reports by Administrations

14. Any Other Business

Schedule of SEQ & SOM Meetings in 2020:

—24-26 March 2020

—23-25 June 2020

—17-19 November 2020

A meeting of the Industry Advisory Board (IAB) to the International Energy Agency (IEA) will be held at the International Energy Agency, 9 rue de la Fédération, 75015 Paris, France, on October 23, 2019, commencing at 09:30 a.m. The purpose of this notice is to permit attendance by representatives of U.S. company members of the IAB at a joint meeting of the IEA's Standing Group on Emergency Questions (SEQ) and the IEA's Standing Group on the Oil Market (SOM), which is scheduled to be held at the same location and time.

The agenda of the SEQ meeting is under the control of the SEQ. It is expected that the SEQ will adopt the following agenda:

Introduction

1. Adoption of the Agenda

2. Approval of Summary Record of 26 June 2019

3. Reports on Recent Oil Market and Policy Developments in IEA Countries

4. Update on the Current Oil Market Situation: followed by Q&A

5. Presentation: “Perspective from the financial markets on recent oil price volatility”, followed by Q&A

6. Inter-active session on the International Maritime Organisation rules on bunker fuels—Part 1.

7. Inter-active session on the International Maritime Organisation rules on bunker fuels—Part 2.

8. TBD

9. Any Other Business

—Date of the next. SEQ/SOM meeting:

26 March 2020 (TBC). Location IEA, (Room 1)

Discussion of content of next SOM meeting

Close of meeting.

Concluding Remarks

As provided in section 252(c)(1)(A)(ii) of the Energy Policy and Conservation Act (42 U.S.C. 6272(c)(1)(A)(ii)), the meetings of the IAB are open to representatives of members of the IAB and their counsel; representatives of members of the IEA's Standing Group on Emergency Questions and the IEA's Standing Group on the Oil Markets; representatives of the Departments of Energy, Justice, and State, the Federal Trade Commission, the General Accounting Office, Committees of Congress, the IEA, and the European Commission; and invitees of the IAB, the SEQ, the SOM, or the IEA.

Signed in Washington, DC, October 10, 2019.
Thomas Reilly,
Assistant General Counsel for International and National Security Programs.

[FR Doc. 2019-22661 Filed 10-16-19; 8:45 am]

BILLING CODE 6450-01-P